ENVIRONMENTAL PROTECTION AGENCY

40 CFR Part 52

[EPA-R04-OAR-2007-0113; FRL-9966-66-Region 4]

Air Plan Approval; Georgia: Permit Exemptions and Definitions; Withdrawal

AGENCY: Environmental Protection Agency (EPA).

ACTION: Direct final rule: withdrawal.

SUMMARY: Due to adverse comments received, the Environmental Protection Agency (EPA) is withdrawing the June 29, 2017, direct final rule that would have approved a revision to the Georgia State Implementation Plan (SIP) concerning changes to existing minor source permitting exemptions and a definition related to minor source permitting exemptions. EPA stated in the direct final rule that if EPA received adverse comments by July 31, 2017, the rule would be withdrawn and not take effect.

DATES: The direct final rule published at 82 FR 29418 on June 29, 2017, is withdrawn, effective August 22, 2017.

FOR FURTHER INFORMATION CONTACT: D. Brad Akers, Air Regulatory Management Section, Air Planning and Implementation Branch, U.S. Environmental Protection Agency Region 4, 61 Forsyth Street SW., Atlanta, Georgia 30303-8960. Phone number: (404) 562-9089; Email: akers.brad@epa.gov.

SUPPLEMENTARY INFORMATION: On June 29, 2017 (82 FR 29418), EPA published a direct final rulemaking to approve portions of a SIP revision submitted by the State of Georgia, through the Georgia Department of Natural Resources' Environmental Protection Division (GA EPD), on September 19, 2006, with a clarification submitted on November 6, 2006. The SIP submission included changes to existing minor source permitting exemptions and a definition related to minor source permitting exemptions. On June 29, 2017 (82 FR 29469), EPA also published an accompanying rulemaking proposing to approve the portions of the aforementioned SIP revision in the event that EPA received adverse comments on the direct final rulemaking.

In the direct final rulemaking, EPA explained that the Agency was publishing the rule without prior proposal because the Agency viewed the submittal as a non-controversial SIP amendment and anticipated no adverse comments. Further, EPA explained that the Agency was publishing a separate document in the proposed rules section of the Federal Register to serve as the proposal to approve the SIP revision should an adverse comment be filed. EPA also noted that the rule would be effective on August 28, 2017, without further notice unless the Agency received adverse comment by July 31, 2017. EPA explained that if the Agency received such comments, then EPA would publish a document withdrawing the final rule and informing the public that the rule would not take effect. It was also explained that all public comments received would then be addressed in a subsequent final rule based on the proposed rule, and that EPA would not institute a second comment period on this action. The public was advised that if no comments were received that the rule would be effective on August 28, 2017, with no further actions on the proposed rule.

On July 31, 2017, EPA received one set of adverse comments from a single Commenter representing four individual groups. As a result of the comments received, EPA is withdrawing the direct final rule approving changes to existing minor source permitting exemptions and a definition related to minor source permitting exemptions into the Georgia SIP. If EPA determines that it is appropriate to finalize the proposed approval of these changes to the Georgia SIP, EPA will publish a final rule which will include a response to the comments received. In the event that EPA determines that it is not appropriate to finalize the proposed approval related to these changes, EPA may issue a subsequent proposal with a different course of action.

List of Subjects in 40 CFR Part 52

Environmental protection, Air pollution control, Incorporation by reference, Intergovernmental relations, Particulate matter, Reporting and recordkeeping requirements.

Dated: August 10, 2017.
V. Anne Heard,
Acting Regional Administrator, Region 4.

Accordingly, the amendments to 40 CFR 52.570(c) published on June 29, 2017 (82 FR 29418), which were to become effective August 28, 2017, are withdrawn.

[FR Doc. 2017-17617 Filed 8-21-17; 8:45 am]

BILLING CODE 6560-50-P